DEPARTMENT OF TRANSPORTATION

Federal Aviation Administration

14 CFR Part 39

[Docket No. FAA-2016-8161; Directorate Identifier 2016-CE-018-AD]

RIN 2120-AA64

Airworthiness Directives; REIMS AVIATION S.A. Airplanes

AGENCY: Federal Aviation Administration (FAA), Department of Transportation (DOT).

ACTION: Notice of proposed rulemaking (NPRM).

SUMMARY: We propose to adopt a new airworthiness directive (AD) for certain REIMS AVIATION S.A. Model F406 airplanes. This proposed AD results from mandatory continuing airworthiness information (MCAI) originated by an aviation authority of another country to identify and correct an unsafe condition on an aviation product. The MCAI describes the unsafe condition as cracks found in the horizontal stabilizer rear attach structure and the vertical fin rear spar attach structure. We are issuing this proposed AD to require actions to address the unsafe condition on these products.

DATES: We must receive comments on this proposed AD by August 22, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact ASI Aviation, Aérodrome de Reims Prunay, 51360 Prunay, France; telephone: +33 3 26 48 46 84; fax: +33 3 26 49 18 57; email: contact@asi-aviation.fr; Internet: http://asi-aviation.fr/page-Accueil.html. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2016-8161; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Comments Invited

We invite you to send any written relevant data, views, or arguments about this proposed AD. Send your comments to an address listed under the ADDRESSES section. Include “Docket No. FAA-2016-8161; Directorate Identifier 2016-CE-018-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2016-0101, dated May 25, 2016 (referred to after this as “the MCAI”), to correct an unsafe condition for the specified products. The MCAI states:

Fatigue cracks and holes elongation were found on horizontal stabilizer fittings on F406 aeroplanes having accumulated more than 2 500 flight hours (FH).

This condition, if not detected and corrected, could result in loss of structural integrity of the horizontal stabilizer fittings.

To initially address this issue, DGAC France published AD 2001-161 to require repetitive visual inspections of the fittings, and, dependings on findings, replacement with a serviceable part.

Since that AD was issued, during maintenance, cracks were found on a slice plate of horizontal stabilizer fittings. Consequently, ASI Aviation issued Service Bulletin (SB) CAB01-5 Revision 2 to provide instructions for additional eddy-current non-destructive test (NDT) inspections.

For the reasons described above, this AD retains the requirements of DGAC France AD 2001-161, which is superseded, and requires the additional NDT inspections.

You may examine the MCAI on the Internet at http://www.regulations.gov by searching for and locating Docket No. FAA-2016-8161.

Related Service Information Under 1 CFR Part 51

ASI Aviation has issued Service Bulletin CAB01-5 Rev 2, dated December 3, 2015. The service information describes procedures for inspecting the horizontal stabilizer rear attach structure and the vertical fin rear spar attach structure for cracks and oversized bolt holes and making all necessary repairs and replacements. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 7 products of U.S. registry. We also estimate that it would take about 20.5 work-hours per product to comply with the basic inspections requirements of this proposed AD (18 work-hours to remove the horizontal stabilizer to gain access for the inspection and 2.5 work-hours to do the inspection). The average labor rate is $85 per work-hour.

Based on these figures, we estimate the cost of the proposed inspection on U.S. operators to be $12,197.50, or $1,742.50 per product.

We estimate that it would take about 25 work-hours per product to reinstall the horizontal stabilizer after doing the proposed inspection and any proposed necessary repairs or replacements. Based on these figures, we estimate the cost of this proposed action on U.S. operators to be $14,875, or $2,125 per product.

In addition, we estimate any proposed necessary corrective actions as follows:

—Installing Service Kit SKRA406-11—Rev. 2 would take about 3 work-hours and require parts costing $65, for a cost of $320 per product. We have no way of determining the number of products that may need this action.

—Installing Service Kit SK406-137 (which superseded Service Kit SKRA406-12—Rev. 2) would take about 20 work-hours and require parts costing $2,000, for a cost of $3,800 per product. We have no way of determining the number of products that may need this action.

—Installing Service Kit SKRA406-13—Rev. 2 would take about 8 work-hours and require parts costing $1,800, for a cost of $2,480 per product. We have no way of determining the number of products that may need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

REIMS AVIATION S.A.: Docket No. FAA-2016-8161; Directorate Identifier 2016-CE-018-AD.

(a) Comments Due Date

We must receive comments by August 22, 2016.

(b) Affected ADs

None.

(c) Applicability

This AD applies to REIMS AVIATION S.A. F406 airplanes, serial numbers F406-0001 through F406-0098, certificated in any category.

(d) Subject

Air Transport Association of America (ATA) Code 55: Stabilizers.

(e) Reason

This AD was prompted by mandatory continuing airworthiness information (MCAI) originated by an aviation authority of another country to identify and correct an unsafe condition on an aviation product. The MCAI describes the unsafe condition as cracks found in the horizontal stabilizer rear attach structure and the vertical fin rear spar attach structure. We are issuing this AD to prevent structural failure of the horizontal stabilizer and/or the vertical fin rear spar attach structure, which could result in damage to the airplane and loss of control.

(f) Actions and Compliance

Unless already done, do the following actions:

(1) At whichever of the compliance times specified in paragraphs (f)(1)(i) through (iii) of this AD that occurs the latest after the effective date of this AD, and repetitively thereafter every 2,400 hours time-in-service (TIS), do a visual and non-destructive test (NDT) inspection of the horizontal stabilizer splice plate assembly, part number (P/N) 6032183-1 or P/N 406-5518-32183-100 (as applicable), and the attach structure assembly P/N 6031210-1. Do the inspections following the Accomplishment Instructions in ASI Aviation Service Bulletin CAB01-5 Rev 2, dated December 3, 2015.

(i) Before accumulating 2,500 hours TIS; or

(ii) Within the next 100 hours TIS; or

(iii) At the next 600-hour inspection.

(2) If, during any inspection as required by paragraph (f)(1) of this AD, any oversized bolt hole or crack is detected on the horizontal stabilizer splice plate assembly or attach structure assembly, before further flight, repair or replace the affected part with a serviceable part following the Accomplishment Instructions in ASI Aviation Service Bulletin CAB01-5 Rev 2, dated December 3, 2015. After taking the necessary corrective action, continue with the repetitive inspection specified in paragraph (f)(1) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2016-0101, dated 25 May 25, 2016, and ASI Aviation Service Kit SKRA40611-Rev. 2, dated December 3, 2015, ASI Service Kit SK406-137, dated December 3, 2015 (which superseded ASI Aviation Service Kit SKRA406-12-Rev. 2, dated December 3, 2015), and ASI Aviation Service Kit SKRA406-13-Rev. 2, dated December 3, 2015, for related information. You may examine the MCAI on the Internet at http://www.regulations.gov by searching for and locating Docket No. FAA-2016-8161. For service information related to this AD, contact ASI Aviation, Aérodrome de Reims Prunay, 51360 Prunay, France; telephone: +33 3 26 48 46 84; fax: +33 3 26 49 18 57; email: contact@ask-aviation.fr; Internet: http://asi-aviation.fr/page-Accueil.html. You may review this referenced service information at the FAA, Small Airplane Directorate, 901 Locust, Kansas City, Missouri 64106. For information on the availability of this material at the FAA, call (816) 329-4148.

Issued in Kansas City, Missouri, on June 28, 2016.
Pat Mullen,
Acting Manager, Small Airplane Directorate, Aircraft Certification Service.

[FR Doc. 2016-15862 Filed 7-6-16; 8:45 am]

BILLING CODE 4910-13-P